DEPARTMENT OF TRANSPORTATION

Federal Aviation Administration

Notice of Intent To Rule on Request To Release Airport Property at the Springfield-Branson Regional Airport, Springfield, MO

AGENCY: Federal Aviation Administration (FAA), DOT.

ACTION: Notice of request to release airport property.

SUMMARY: The FAA proposes to rule and invites public comment on the release of land at the Springfield-Branson Regional Airport under the provisions of Section 125 of the Wendell H. Ford Aviation Investment Reform Act for the 21st Century (AIR 21).

DATES: Comments must be received on or before June 18, 2001.

ADDRESSES: Comments on this application may be mailed or delivered to the FAA at the following address: Federal Aviation Administration, Central Region, Airports Division, ACE-600, 901 Locust, Kansas City, Missouri 64106-2325.

In addition, one copy of any comments submitted to the FAA must be mailed or delivered to Mr. Robert D. Hancik, A.A.E., Director of Aviation, Springfield-Branson Regional Airport, 5000 West Kearney, Suite 15, Springfield, Missouri 65803.

FOR FURTHER INFORMATION CONTACT: Mrs. Nicoletta S. Oliver, Airports Compliance Specialist, Federal Aviation Administration, Central Region, Airports Division, ACE-615C, 901 Locust, Kansas City, Missouri 64106-2325. The request to release property may be reviewed in person at this same location.

SUPPLEMENTARY INFORMATION: The FAA invites public comment on the request to release property at the Springfield-Branson Regional Airport under the provisions of AIR21.

On April 25, 2001, the FAA determined that the request to release property at the Springfield-Branson Regional Airport submitted by the Airport Board of the City of Springfield met the procedural requirements of the Federal Aviation Administration. The FAA will approve or disapprove the request, in whole or in part, no later than June 30, 2001.

The following is a brief overview of the request.

The Springfield-Branson Regional Airport requests the release of approximately 169 acres of airport property. The land is currently not being used for aeronautical purposes. The release of the property will allow for its incorporation into an industrial park that will bring both sewers and natural gas to the southern boundaries of the airport. With utilities and access to those utilities in place, the airport would have the opportunity to develop, for aeronautical uses, land west of the industrial center and north of the southern boundary.

It is estimated that the sale of the property would provide $1,352,000. The proceeds, less $75,000, would be used for future FAA-Airport Improvement Program (AIP) eligible projects at the Springfield-Branson Regional Airport within the next five years. The $75,000 would be applied to an aeronautical project at the airport administered by the Missouri Department of Transportation (MoDOT).

Any person may inspect the request in person at the FAA office listed above under FOR FURTHER INFORMATION CONTACT.

In addition, any person may inspect the request, notice and other documents germane to the request in person at the Springfield-Branson Regional Airport.

Issued in Kansas City, Missouri, on April 25, 2001.
George A. Hendon,
Manager, Airports Division, Central Region.

[FR Doc. 01-12553 Filed 5-17-01; 8:45 am]

BILLING CODE 4910-13-M